ENVIRONMENTAL PROTECTION AGENCY

[FRL-8731-6]

Draft Modification to the NPDES General Permit for Oil and Gas Exploration, Development and Production Facilities in State and Federal Waters in Cook Inlet, AK, Permit No. AKG-31-5000 (Permit)

AGENCY: Environmental Protection Agency (EPA).

ACTION: Notice of availability of draft modification to NPDES general permit.

SUMMARY: The Director, Office of Water and Watersheds, EPA Region 10, is issuing a draft modification to the National Pollutant Discharge Elimination System (NPDES) general permit in response to a settlement agreement between Union Oil Company of California and XTO Energy, Inc. (Petitioners) and EPA (Ninth Circuit, Case No. 07-72656). On May 25, 2007, EPA issued the final Permit, with an effective date of July 2, 2007 (May 31, 2007, 72 FR 30377). The Permit included the following provisions, among others:

1. Condition II.A.10: “If any discharges are commingled, the most stringent effluent limitations for each individual discharge shall be applied to the resulting discharge. If the Individual discharge is not authorized, the commingled discharge is not authorized. Monitoring for compliance with technology based limits, such as the oil and grease concentration of produced water must be accomplished prior to commingling.”

2. Condition II.C.3: “Commingled Waste Streams. If deck drainage is commingled with produced water, then this discharge shall be considered produced water for monitoring purposes (see Section II.G). However, samples collected for compliance with the produced water oil and grease limits shall be taken prior to commingling the produced water stream with deck drainage or any other waste stream. The estimated deck drainage flow rate must be reported in the comment section of the DMR (i.e., discharge monitoring report).”

3. Table 7-A, Footnote 1: “The sample type shall be either grab, or a 24-hour composite which consists of the arithmetic average of the results of 4 grab samples taken over a 24-hour period. If a sample is unavailable to be analyzed and the permittee has explained the reason in the DMR, averaging of the remaining samples is permitted. Samples shall be collected prior to the addition of any seawater to the produced water waste stream. See Section II.G.6.b of this Permit.”

On July 3, 2007, Petitioners filed the Petition for Review, challenging the three provisions of the Permit set forth above. On the same date, Petitioners filed an Emergency Motion for Stay Under Circuit Rule 27-3, requesting the Court stay the three highlighted sentences above (the “contested terms”). EPA did not oppose the Emergency Stay and on July 5, 2007, the Court issued an order granting Petitioners' Emergency Motion for Stay of the contested Permit provisions.

On August 21, 2008, after EPA reviewed the basis for the contested terms, EPA and Petitioners reached a settlement agreement. Under this agreement, EPA agreed to modify the Permit, and publish in the Federal Register, pursuant to 40 CFR 122.62, a proposal to modify the Permit by removing the third sentence of Condition II.A.10, the second sentence of Condition II.C.3, and the fourth sentence of Footnote 1 to Table 7-A, from the Permit. Intervenor Cook Inletkeeper did not object to the settlement agreement. A fact sheet has been prepared which explains EPA's rationale for the proposed Permit modification.

Public Comment: EPA will only be accepting comments on the proposed modification of the Permit. Interested persons may submit written comments on the draft Permit modification to the attention of Hanh Shaw at the address below. Copies of the draft modification and fact sheet are available upon request. The Permit modification and fact sheet may also be downloaded from the Region 10 Web site at http://www.epa.gov/r10earth/waterpermits.htm (click on draft permits, then Alaska). All comments must include the name, address, and telephone number of the commenter and a concise statement of comment and the relevant facts upon which it is based. Comments of either support or concern which are directed at specific, cited permit requirements are appreciated.

After the expiration date of the Public Notice on November 20, 2008, the Director, Office of Water and Watersheds, EPA Region 10, will make a final determination with respect to issuance of the Permit modification. The proposed changes contained in the draft modification will become final upon issuance if no significant comments are received during the public comment period.

DATES: Comments must be received or postmarked by November 20, 2008.

ADDRESSES: Comments on the proposed Permit modification should be sent to Director, Office of Water and Watersheds; USEPA Region 10; 1200 6th Ave., Suite 900, OWW-130; Seattle, Washington 98101. Comments may also be received via electronic mail at shaw.hanh@epa.gov.

FOR FURTHER INFORMATION CONTACT: Additional information can be obtained by contacting Hanh Shaw at the address above, or by visiting the Region 10 Web site at http://www.epa.gov/r10earth/waterpermits.htm. Requests may also be made to Audrey Washington at (206) 553-0523, or electronically mailed to: washington.audrey@epa.gov.

Other Legal Requirements

State Water Quality Standards and State Certification

The Alaska Department of Environmental Conservation (ADEC) intends to waive the Permit under Section 401 of the Clean Water Act since State water quality standards are not affected by the modification.

Endangered Species Act

EPA has determined that issuance of the Permit modification would have no effect on any threatened or endangered species, nor designated critical habitat.

Executive Order 12866

EPA has determined that this Permit modification is not a “significant regulatory action” under the terms of Executive Order 12866 and is therefore not subject to OMB review.

Paperwork Reduction Act

The information collection requirements of this permit were previously approved by the Office of Management and Budget (OMB) under the provisions of the Paperwork Reduction Act, 44 U.S.C. 3501 et seq., and assigned OMB control numbers 2040-0086 and 2040-0110.

Regulatory Flexibility Act

The Regulatory Flexibility Act (RFA), 5 U.S.C. 601 et seq., requires that EPA prepare a regulatory flexibility analysis for rules subject to the requirements of 5 U.S.C. 553(b) that have a significant impact on a substantial number of small entities. However, general NPDES permits are not “rules” subject to the requirements of 5 U.S.C. 553(b), and is therefore not subject to the RFA.

Unfunded Mandates Reform Act

Section 201 of the Unfunded Mandates Reform Act (UMRA), Public Law 104-4, generally requires Federal agencies to assess the effects of their “regulatory actions” (defined to be the same as “rules” subject to the RFA) on tribal, state, and local governments and the private sector. However, general NPDES permits are not “rules” subject to the requirements of 5 U.S.C. 553(b), and is therefore not subject to the RFA.

Signed this 10th day of October, 2008.
Michael F. Gearheard,
Director, Office of Water and Watersheds, U.S. Environmental Protection Agency, Region 10.

[FR Doc. E8-25075 Filed 10-20-08; 8:45 am]

BILLING CODE 6560-50-P